DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda for the December 11, 2014, meeting of the National Advisory Committee on Institutional Quality and Integrity (NACIQI), and provides information to members of the public on submitting written comments and on requesting to make oral comments at the meeting. The notice of this meeting is required under Section 10(a)(2) of the Federal Advisory Committee Act (FACA) and Section 114(d)(1)(B) of the Higher Education Act (HEA) of 1965, as amended.

DATES: The NACIQI meeting will be held on December 11, 2014, from 8 a.m. to 5:30 p.m. at a location to be determined in the Washington DC area.

ADDRESSES: U.S. Department of Education, Office of Postsecondary Education, 1990 K Street NW., Room 8080, Washington, DC 20006. The exact location of the meeting will be published in the Federal Register and on the Department's Web site at http://www2.ed.gov/about/bdscomm/list/naciqi.html#meetings by November 3, 2014.

FOR FURTHER INFORMATION CONTACT: Carol Griffiths, Executive Director, NACIQI, U.S. Department of Education, 1990 K Street NW., Room 8073, Washington, DC 20006-8129, telephone: (202) 219-7035, fax: (202) 502-7874, or email Carol.Griffiths@ed.gov.

SUPPLEMENTARY INFORMATION: NACIQI's Statutory Authority and Function: The NACIQI is established under Section 114 of the Higher Education Act of 1965, as amended (HEA), 20 U.S.C. 1011c. The NACIQI advises the Secretary of Education about:

• The establishment and enforcement of the criteria for recognition of accrediting agencies or associations under Subpart 2, Part H, Title IV of the HEA, as amended.

• The recognition of specific accrediting agencies or associations or a specific State public postsecondary vocational education or nurse education approval agency.

• The preparation and publication of the list of nationally recognized accrediting agencies and associations.

• The eligibility and certification process for institutions of higher education under Title IV of the HEA, together with recommendations for improvement in such process.

• The relationship between (1) accreditation of institutions of higher education and the certification and eligibility of such institutions, and (2) State licensing responsibilities with respect to such institutions.

• Any other advisory function relating to accreditation and institutional eligibility that the Secretary may prescribe.

Meeting Agenda: In addition to its review of accrediting agencies and State approval agencies for Secretarial recognition, the meeting agenda will include Committee discussions regarding the Committee's draft policy recommendations to advise the Secretary in preparation for the reauthorization of the Higher Education Act (HEA).

Below is a list of agencies, including their current and requested scopes of recognition, scheduled for review during the December 11, 2014 meeting:

Petition for Initial Recognition

Accrediting Agency

1. Council for Accreditation of Educator Preparation (CAEP) (Requested Scope: The accreditation of educator preparation programs in degree-granting institutions of higher education throughout the United States that offer certificates/licensure, or associates, bachelors, masters, post-baccalaureate, or doctoral degrees, including those offered via distance education.)

Petitions for Recognition Based on a Compliance Report

Accrediting Agencies

1. Academy of Nutrition and Dietetics, Accreditation Council for Education in Nutrition and Dietetics (ACEND) (Current Scope: The accreditation and preaccreditation, within the United States, of Didactic and Coordinated Programs in Dietetics at both the undergraduate and graduate level, postbaccalaureate Dietetic Internships, and Dietetic Technician Programs at the associate degree level, and accreditation of such programs offered via distance education.)

2. American Veterinary Medical Association (AVMA) (Current Scope: The accreditation and preaccreditation (“Reasonable Assurance”) in the United States of programs leading to professional degrees (D.V.M. or D.M.D.) in veterinary medicine.) (Requested Scope: The accreditation and preaccreditation (“Provisional Accreditation”) in the United States of programs leading to professional degrees (D.V.M. or D.M.D.) in veterinary medicine.) NOTE: The language above reflects a technical change initiated by Department staff regarding the term the agency uses to confer its “preaccreditation” status.

3. Middle States Commission on Higher Education (MSCHE), (Current Scope: The accreditation and preaccreditation (“Candidacy Status”) of institutions of higher education in Delaware, the District of Columbia, Maryland, New Jersey, New York, Pennsylvania, Puerto Rico, and the U.S. Virgin Islands, including distance education programs offered at those institutions.) (Requested Scope: The accreditation and preaccreditation (“Candidacy Status”) of institutions of higher education in Delaware, the District of Columbia, Maryland, New Jersey, New York, Pennsylvania, Puerto Rico, and the U.S. Virgin Islands, including distance education and correspondence education programs offered at those institutions.)

4. New York State Board of Regents, and the Commissioner of Education (NYSBR) (Current and Requested Scope: The accreditation of those degree-granting institutions of higher education in New York that designate the agency as their sole or primary nationally recognized accrediting agency for purposes of establishing eligibility to participate in HEA programs including accreditation of programs offered via distance education within these institutions.)

5. Western Association of Schools and Colleges, Accrediting Commission for Senior Colleges and Universities (WASC-SR) (Current and Requested Scope: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

State Approval Agency for Vocational Education

1. Oklahoma Department of Career and Technology Education (OKSB-vt).

Submission of written comments regarding a specific accrediting agency or state approval agency under review: Written comments about the recognition of a specific accrediting or State agency must be received by September 22, 2014, in the ThirdPartyComments@ed.gov mailbox and include the subject line “Written Comments: (agency name).”

The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to the issues raised in the compliance report and the criteria for recognition cited in the Secretary's letter that requested the report. Comments about the renewal of an agency's recognition based on a review of the agency's petition must relate to its compliance with the Criteria for the Recognition of Accrediting Agencies, or the Criteria and Procedures for Recognition of State Agencies for Approval of Public Postsecondary Vocational Education, as appropriate, which are available at http://www.ed.gov/admins/finaid/accred/index.html. Third parties having concerns about agencies regarding matters outside the scope of a compliance report or a petition should report those concerns directly to the Department to be reviewed as a complaint. Only material submitted by the deadline to the email address listed in this notice, and in accordance with these instructions, become part of the official record concerning agencies scheduled for review and are considered by the Department and NACIQI in their deliberations. Please do not send material directly to NACIQI members.

Submission of requests to make an oral comment regarding a specific accrediting agency or state approval agency under review: There are two methods the public may use to make a third-party oral comment of three minutes concerning one of the agencies scheduled for review at the December 11, 2014 meeting. Oral comments about agencies seeking renewal of recognition must relate to the Criteria for Recognition of Accrediting Agencies, or the Criteria and Procedures for Recognition of State Agencies for Approval of Public Postsecondary Vocational Education, as appropriate, which are available at: http://www.ed.gov/admins/finaid/accred/index.html.

Method One: Submit a request by email to the ThirdPartyComments@ed.gov mailbox. Please do not send material directly to NACIQI members. Requests must be received by September 22, 2014, and include the subject line “Oral Comment Request: (agency name).” The email must include the name(s), title, organization/affiliation, mailing address, email address, telephone number, of the person(s) requesting to speak, and a brief summary (not to exceed one page) of the principal points to be made during the oral presentation. All individuals submitting an advance request in accordance with this notice will be afforded an opportunity to speak.

Method Two: Register at the meeting location on December 11, 2014, to make an oral comment during NACIQI's deliberations concerning a particular agency or institution scheduled for review. The requestor must provide his or her name, title, organization/affiliation, mailing address, email address, and telephone number. A total of up to fifteen minutes during each agency review will be allotted for oral commenters who register on December 11, 2014. Individuals will be selected on a first-come, first-served basis. If selected, each commenter may not exceed three minutes.

The oral comments made will become part of the official record and will be considered by the Department and NACIQI in their deliberations. No individual in attendance or making oral presentations may distribute written materials at the meeting.

Submission of written comments regarding the committee's policy recommendations: The Committee will publish its draft policy recommendations at http://www2.ed.gov/about/bdscomm/list/naciqi.html#meetings by October 15, 2014, and invites written comments. Comments must be received by November 15, 2014, in the ThirdPartyComments@ed.gov mailbox and include the subject line “Written Comments: Policy Recommendations”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the NACIQI members.

Access to Records of the Meeting: The Department will post the official report of the meeting on the NACIQI Web site 90 days after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: 20 U.S.C. 1011c.

Lynn B. Mahaffie,
Acting Assistant Secretary for Postsecondary Education.

[FR Doc. 2014-19653 Filed 8-25-14; 8:45 am]

BILLING CODE 4000-01-P